FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 22, 2010.

A. Federal Reserve Bank of Dallas (E. Ann Worthy, Vice President) 2200 North Pearl Street, Dallas, Texas 75201-2272:

1. Cecil R. Simmons, San Benito, Texas, individually; Cecil R. Simmons, San Benito, Texas, Leonard P. Simmons, San Benito, Texas, Anita Simmons Boswell, Harlingen, Texas, Michael Scott, Raymondville, Texas, Wilson B. Fry, San Benito, Texas, Francisco Loya, Harlingen, Texas, and Frank E. Russell (the “Director Group”); Cecil R. Simmons and Juana L. Simmons, San Benito, Texas, Anita Simmons Boswell, Harlingen, Texas, Sarah Simmons Hays, Evergreen, Colorado, and Dolores Simmons, San Benito, Texas; and Leonard P. Simmons and Mary Beth Simmons, San Benito, Texas, Delores M. Simmons, San Benito, Texas, Ricardo D. Leal, Harlingen, Texas, Audrey Simmons Hooks, Austin, Texas, Samuel E. Simmons, Harlingen, Texas, and Ernest G. Nash, III, Harlingen, Texas; to acquire voting shares of, and thereby control First San Benito Bancshares Corporation, San Benito, Texas, and indirectly acquire voting shares and control of First Community Bank, National Association, San Benito, Texas.

Board of Governors of the Federal Reserve System, October 4, 2010.
Robert deV. Frierson,
Deputy Secretary of the Board.

[FR Doc. 2010-25271 Filed 10-6-10; 8:45 am]

BILLING CODE 6210-01-P